DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS (the Secretary) is named as the respondent in all proceedings brought by the filing of petitions for compensation under the Program, the United States Court of Federal Claims is charged by statute with responsibility for considering and acting upon the petitions.

FOR FURTHER INFORMATION CONTACT: For information about requirements for filing petitions, and the program in general, contact Lisa L. Reyes, Acting Clerk, United States Court of Federal Claims, 717 Madison Place NW, Washington, DC 20005, (202) 357-6400. For information on HRSA's role in the program, contact the Director, National Vaccine Injury Compensation Program, 5600 Fishers Lane, Room 08N146B, Rockville, MD 20857; (301) 443-6593, or visit our website at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This table lists for each covered childhood vaccine the conditions that may lead to compensation and, for each condition, the time period for occurrence of the first symptom or manifestation of onset or of significant aggravation after vaccine administration. Compensation may also be awarded for conditions not listed in the Table and for conditions that are manifested outside the time periods specified in the table, but only if the petitioner shows that the condition was caused by one of the listed vaccines.

Section 2112(b)(2) of the PHS Act, 42 U.S.C. 300aa-12(b)(2), requires that “[w]ithin 30 days after the Secretary receives service of any petition filed under section 2111, the Secretary shall publish notice of such petition in the Federal Register.” Set forth below is a list of petitions received by HRSA on December 1, 2017, through December 31, 2017. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the program.

Dated: January 26, 2018.
George Sigounas,
Administrator.

List of Petitions Filed

1. Janece Dix, Gibsonton, Florida, Court of Federal Claims No: 17-1859V

2. Constance Crabtree, Portland, Oregon, Court of Federal Claims No: 17-1860V

3. Norval Nichols, Washington, District of Columbia, Court of Federal Claims No: 17-1861V

4. Rachelle Gucwa on behalf of B. C., Tavernier, Florida, Court of Federal Claims No: 17-1862V

5. Sharla Bafia, Washington, District of Columbia, Court of Federal Claims No: 17-1863V

6. Gary Koslica, Kenosha, Wisconsin, Court of Federal Claims No: 17-1864V

7. Tiffany Twofoot, Nashua, New Hampshire, Court of Federal Claims No: 17-1866V

8. Lauren Wilkins, Pleasant Grove, Utah, Court of Federal Claims No: 17-1867V

9. Stephanie Fiorello and Anthony Fiorello on behalf of R. F., Westfield, New Jersey, Court of Federal Claims No: 17-1869V

10. Sara Zutter, Brooklyn, New York, Court of Federal Claims No: 17-1872V

11. Bailey McCammon, Avon, Indiana, Court of Federal Claims No: 17-1873V

12. Kristoff Hendrickson, Saint Louis Park, Minnesota, Court of Federal Claims No: 17-1878V

13. Andrew Sanchez-Aldana and Karina Sanchez-Aldana on behalf of V. S. A., San Diego, California, Court of Federal Claims No: 17-1879V

14. Kathy Biser, Streetsboro, Ohio, Court of Federal Claims No: 17-1880V

15. Tarmesha Brown, Phoenix, Arizona, Court of Federal Claims No: 17-1884V

16. Alma Rivera, New York, New York, Court of Federal Claims No: 17-1887V

17. Charles Presley, Cherry Log, Georgia, Court of Federal Claims No: 17-1888V

18. Kathleen M. Lesley, O'Fallon, Missouri, Court of Federal Claims No: 17-1889V

19. Lorrie Jones, D'Iberville, Mississippi, Court of Federal Claims No: 17-1890V

20. Annette Quintana, Montrose, Colorado, Court of Federal Claims No: 17-1891V

21. Keri Anne Bordelon, Hot Springs, Arkansas, Court of Federal Claims No: 17-1892V

22. Janice Romano, Glassboro, New Jersey, Court of Federal Claims No: 17-1893V

23. Elizabeth Watkins, Washington, District of Columbia, Court of Federal Claims No: 17-1894V

24. Gayle Lawless Cox, Los Gatos, California, Court of Federal Claims No: 17-1895V

25. Valerie Newport, Phoenix, Arizona, Court of Federal Claims No: 17-1897V

26. Carla Durham, Pitcairn, Pennsylvania, Court of Federal Claims No: 17-1899V

27. Carol Gutierrez, Des Moines, Iowa, Court of Federal Claims No: 17-1904V

28. Joan Forrest, Holladay, Utah, Court of Federal Claims No: 17-1905V

29. Jeanne Rafferty, Washington, District of Columbia, Court of Federal Claims No: 17-1906V

30. Traci Wilks Jones, High Point, North Carolina, Court of Federal Claims No: 17-1907V

31. Robin Wynne, Boston, Massachusetts, Court of Federal Claims No: 17-1908V

32. Emily Middleton, Mt. Sterling, Kentucky, Court of Federal Claims No: 17-1910V

33. Willie J. Blackmon, Banning, California, Court of Federal Claims No: 17-1911V

34. Reva Sims, Missoula, Montana, Court of Federal Claims No: 17-1913V

35. Darlene Howe, Encinitas, California, Court of Federal Claims No: 17-1914V

36. Angela Apuzzo, Boston, Massachusetts, Court of Federal Claims No: 17-1915V

37. Jonathan Rogan on behalf of T. R., Encinitas, California, Court of Federal Claims No: 17-1916V

38. Sheri Grove, Cedartown, Georgia, Court of Federal Claims No: 17-1917V

39. Douglas Kelly, Rockville, Maryland, Court of Federal Claims No: 17-1918V

40. Tracy McCormick, Lombard, Illinois, Court of Federal Claims No: 17-1919V

41. Gorett Parsloe, Washington, District of Columbia, Court of Federal Claims No: 17-1920V

42. Robert Lermond, Washington, District of Columbia, Court of Federal Claims No: 17-1921V

43. Steven S. Mills on behalf of Meri E. Boatman, Washington, District of Columbia, Court of Federal Claims No: 17-1922V

44. Sandra Williams, Bemidji, Minnesota, Court of Federal Claims No: 17-1925V

45. Amanda Tripp, Lewiston, Maine, Court of Federal Claims No: 17-1926V

46. Kimberly Smyth, Washington, District of Columbia, Court of Federal Claims No: 17-1927V

47. Charyl Wojtaszek, Washington, District of Columbia, Court of Federal Claims No: 17-1928V

48. Katherine J. Rader, Maple Grove, Minnesota, Court of Federal Claims No: 17-1929V

49. Bradford Kaup, Boise, Idaho, Court of Federal Claims No: 17-1930V

50. Deanna Drayton, New York, New York, Court of Federal Claims No: 17-1932V

51. Echo Llewellyn, Washington, District of Columbia, Court of Federal Claims No: 17-1934V

52. James Phillips, Washington, District of Columbia, Court of Federal Claims No: 17-1935V

53. Melody Chesley, Homer, Alaska, Court of Federal Claims No: 17-1936V

54. Cynthia Alexander, Washington, District of Columbia, Court of Federal Claims No: 17-1939V

55. Tracy Oehling, Manassas Park, Virginia, Court of Federal Claims No: 17-1940V

56. Derhyl Middleton, Washington, District of Columbia, Court of Federal Claims No: 17-1942V

57. Opal Waltz, Front Royal, Virginia, Court of Federal Claims No: 17-1943V

58. Judith Mora, Chandler, Arizona, Court of Federal Claims No: 17-1945V

59. Rebecca Crane and Grant Crane on behalf of S. C., Tucson, Arizona, Court of Federal Claims No: 17-1947V

60. Christine Rayner, Cranston, Rhode Island, Court of Federal Claims No: 17-1953V

61. Michael Valese, Toms River, New Jersey, Court of Federal Claims No: 17-1956V

62. Luciana Chaves and Rodrigo Calloni on behalf of A. C., Wheaton, Maryland, Court of Federal Claims No: 17-1957V

63. Mara Corter, Raleigh, North Carolina, Court of Federal Claims No: 17-1961V

64. Penny Cornelius, Port Huron, Michigan, Court of Federal Claims No: 17-1963V

65. Alexandra Morrow, Port Huron, California, Court of Federal Claims No: 17-1964V

66. Joseph Hilo, Lititz, Pennsylvania, Court of Federal Claims No: 17-1965V

67. Darrell Lamont Tatum, Wellesley Hills, Massachusetts, Court of Federal Claims No: 17-1966V

68. Chandra Novak, Howell, Michigan, Court of Federal Claims No: 17-1967V

69. Genarina Decastro, Philadelphia, Pennsylvania, Court of Federal Claims No: 17-1973V

70. Jeana Milton on behalf of Thirza Arlene Bagley, Deceased, Standale, Michigan, Court of Federal Claims No: 17-1974V

71. Katherine Duke, Amarillo, Texas, Court of Federal Claims No: 17-1976V

72. Kenneth Cuevas, Durham, North Carolina, Court of Federal Claims No: 17-1978V

73. Jackie Duty, Dallas, Texas, Court of Federal Claims No: 17-1979V

74. Rhoda Cohen, Howard Beach, New York, Court of Federal Claims No: 17-1980V

75. Angela Avanti, Washington, District of Columbia, Court of Federal Claims No: 17-1986V

76. Faith Hoelzel, Mukwonago, Wisconsin, Court of Federal Claims No: 17-1987V

77. Andrew Bartosiewicz and Lonya Bartosiewicz on behalf of J. B., Pittsburgh, Pennsylvania, Court of Federal Claims No: 17-1988V

78. Doreen Clouser, Marshall, Illinois, Court of Federal Claims No: 17-1989V

79. Janell Ross, Washington, District of Columbia, Court of Federal Claims No: 17-1992V

80. Ralph M. Pavelka, Mora, Minnesota, Court of Federal Claims No: 17-1993V

81. Ashley Crenshaw, Baltimore, Maryland, Court of Federal Claims No: 17-1994V

82. Heather Lynch, Boston, Massachusetts, Court of Federal Claims No: 17-1995V

83. Marylou Porzio, Washington, District of Columbia, Court of Federal Claims No: 17-1996V

84. Melvina Wong, Washington, District of Columbia, Court of Federal Claims No: 17-1997V

85. Angela Lynch, Washington, District of Columbia, Court of Federal Claims No: 17-1999V

86. Leslie Kraus, Bensalem, Pennsylvania, Court of Federal Claims No: 17-2001V

87. Ramona Dicomo, Linwood, New Jersey, Court of Federal Claims No: 17-2002V

88. Martha Stanford, Florence, Alabama, Court of Federal Claims No: 17-2005V

89. Karen Hergett, Billings, Montana, Court of Federal Claims No: 17-2008V

90. Emily McHenry, Chicago, Illinois, Court of Federal Claims No: 17-2009V

91. George Foster, Henderson, New York, Court of Federal Claims No: 17-2010V

92. Laila Saghir, Owings Mills, Maryland, Court of Federal Claims No: 17-2011V

93. Michael Dore, Cambridge, Massachusetts, Court of Federal Claims No: 17-2012V

94. Crystal Hill, Philadelphia, Pennsylvania, Court of Federal Claims No: 17-2013V

95. Harry Wilmore, Philadelphia, Pennsylvania, Court of Federal Claims No: 17-2014V

96. Elizabeth Mozer, Dresher, Pennsylvania, Court of Federal Claims No: 17-2015V

97. Jacqueline Pohlman, Auburn, Washington, Court of Federal Claims No: 17-2016V

98. Randall Fennig, Vienna, Virginia, Court of Federal Claims No: 17-2019V

99. Sarah L. Neal and Richard C. Neal on behalf of C. N., Deceased, Ocean City, New Jersey, Court of Federal Claims No: 17-2020V

100. Sarah Neal, Ocean City, New Jersey, Court of Federal Claims No: 17-2021V

101. Stephanie Myers, Towson, Maryland, Court of Federal Claims No: 17-2025V

102. Danielle Gilmore, Bradenton, Florida, Court of Federal Claims No: 17-2026V

103. Marissa Bialek, Washington, District of Columbia, Court of Federal Claims No: 17-2030V

104. Maria Elmakky, Washington, District of Columbia, Court of Federal Claims No: 17-2032V

105. Hoang-Hoa Nguyen on behalf of Tuyet Mai, Wellesley Hills, Massachusetts, Court of Federal Claims No: 17-2051V

106. Angela Gornowicz, Cuyahoga Falls, Ohio, Court of Federal Claims No: 17-2053V

107. Lucinda Kelley, Atlanta, Georgia, Court of Federal Claims No: 17-2054V

108. Cheyenne Prescott, Englewood, New Jersey, Court of Federal Claims No: 17-2055V

109. Sylvia Wiseman, Indianapolis, Indiana, Court of Federal Claims No: 17-2060V

110. Brian Anklam and Karen Anklam on behalf of N. A., Twin Falls, Idaho, Court of Federal Claims No: 17-2061V

111. Dean Hrieche, Englewood, New Jersey, Court of Federal Claims No: 17-2063V

[FR Doc. 2018-02052 Filed 1-31-18; 8:45 am]

BILLING CODE 4165-15-P